DEPARTMENT OF TRANSPORTATION

National Highway Traffic Safety Administration

Petition for Exemption From the Federal Motor Vehicle Theft Prevention Standard; General Motors Corporation

AGENCY: National Highway Traffic Safety Administration (NHTSA), Department of Transportation (DOT).

ACTION: Grant of petition for exemption.

SUMMARY: This document grants in full the petition of General Motors Corporation (GM) for an exemption of a high-theft line, the Chevrolet Cobalt, from the parts-marking requirements of the Federal Motor Vehicle Theft Prevention Standard. This petition is granted because the agency has determined that the antitheft device to be placed on the line as standard equipment is likely to be as effective in reducing and deterring motor vehicle theft as compliance with the parts-marking requirements of the Theft Prevention Standard.

DATES: The exemption granted by this notice is effective beginning with model year (MY) 2005.

FOR FURTHER INFORMATION CONTACT: Ms. Rosalind Proctor, Office of International Policy, Fuel Economy and Consumer Programs, NHTSA, 400 Seventh Street, SW., Washington, DC 20590. Ms. Proctor's phone number is (202) 366-0846. Her fax number is (202) 493-2290.

SUPPLEMENTARY INFORMATION: In a petition dated May 6, 2005, General Motors Corporation (GM), requested an exemption from the parts-marking requirements of the theft prevention standard (49 CFR Part 541) for the Chevrolet Cobalt vehicle line, beginning with MY 2005. The petition requested an exemption from parts-marking requirements pursuant to 49 CFR Part 543, Exemption from Vehicle Theft Prevention Standard, based on the installation of an antitheft device as standard equipment for the entire vehicle line.

Under § 543.5(a), a manufacturer may petition NHTSA for one line of vehicle lines per year.

GM's submission is considered a complete petition as required by 49 CFR 543.7, in that it meets the general requirements contained in § 543.5 and the specific content requirements of § 543.6.

In its petition, GM provided a detailed description and diagram of the identity, design, and location of the components of the antitheft device for the new vehicle line. GM will install its antitheft device as standard equipment on the MY 2005 Chevrolet Cobalt vehicle line. The antitheft device to be installed on the MY 2005 Chevrolet Cobalt, the Passlock III, is the third implementation of the Passlock concept. The Passlock III system incorporates an ignition immobilizer and is designed to provide passive protection against unauthorized vehicle use. The system does not include an audible or visual alarm as standard equipment.

GM stated that the Passlock III system uses a standard ignition key to rotate a specially coded ignition switch. The conventional mechanical code of the key is used to unlock and release the transmission lever and the steering wheel. However, before the vehicle can be operated, the electrical code in the ignition switch must be read and determined to match the value stored in the decoder module.

The electrical code in the ignition switch is provided by resistive elements enabled by the Lock cylinder. When a key with the proper mechanical cut is inserted in the lock cylinder and rotated from “RUN” to “CRANK”, the resistive code will become readable by the decoder module. When the decoder module recognizes a valid code, it transmits a Vehicle Security Password via a serial data link to the Powertrain Control Module (PCM) to enable fuel flow. GM stated that there are 65,534 possible password codes. If the decoder module detects an invalid code, the Passlock III will send a Fuel Disable Password to disable fuel flow. The decoder module then enters a tamper state for ten minutes. During this time, the security light will flash, and any additional attempts to start the vehicle is ignored by the system.

GM stated that in the event of a “slam-pull” theft attempt or an attempt to remove the ignition switch is made, a protrusion on the lock cylinder will destroy the ignition switch, immobilizing the vehicle. In the event the lock is forced to rotate, the lock cylinder head will break off or the tool will “cam” out of the key-way before resistive code can be read. If the PCM does not receive a password signal from the decoder module, engine operation will remain inhibited.

In order to ensure the reliability and durability of the device, GM conducted tests based on its own specified standards. GM provided a detailed list of tests conducted and believes that its device is reliable and durable since the device complied with its specified requirements for each test. The tests conducted included high and low temperature storage, thermal shock, humidity, frost, salt fog, flammability, altitude, drop, shock, random vibration, dust, potential contaminants, connector retention/strain relief, terminal retention, connector insertion, immersion and tumbling. Additionally, GM stated that the design and assembly processes of the Passlock III subsystem and components are validated for a vehicle life of 10 years and 150,000 miles of performance.

To substantiate its beliefs as to the effectiveness of the new device, GM states that the Passlock III is designed to provide deterrence against prevalent theft methods: Hot-wiring, forced lock rotation, and forced lock extraction. GM states that field reports from law-enforcement and insurance investigators have indicated that theft deterrents installed in GM vehicles have been effective in deterring theft. Additionally, GM stated that theft data reported by the agency indicate a continued reduction in theft rates for General Motors vehicles equipped with theft deterrent systems. Therefore, GM concludes that the “PASS-Key”-like devices are more effective in deterring motor vehicle theft than the parts-marking requirements of 49CFR part 541.

Based on the evidence submitted by GM, the agency believes that the Passlock III antitheft device for the Chevrolet Cobalt vehicle line is likely to be as effective in reducing and deterring motor vehicle theft as compliance with the parts-marking requirements of the Theft Prevention Standard (49 CFR 541).

The agency concludes that the device will provide four of the five types of performance listed in § 543.6(a)(3): Promoting activation; preventing defeat or circumvention of the device by unauthorized persons; preventing operation of the vehicle by unauthorized entrants; and ensuring the reliability and durability of the device.

As required by 49 U.S.C. 33106 and 49 CFR 543.6(a)(4) and (5), the agency finds that GM has provided adequate reasons for its belief that the antitheft device will reduce and deter theft. This conclusion is based on the information GM provided about its antitheft device.

For the foregoing reasons, the agency hereby grants in full GM's petition for an exemption for the MY 2005 Chevrolet Cobalt vehicle line from the parts-marking requirements of 49 CFR Part 541. If GM decides not to use the exemption for this line, it should formally notify the agency. If such a decision is made, the line must be fully marked according to the requirements under 49 CFR 541.5 and 541.6 (marking of major component parts and replacement parts).

NHTSA notes that if GM wishes in the future to modify the device on which this exemption is based, the company may have to submit a petition to modify the exemption.

Section 543.7(d) states that a Part 543 exemption applies only to vehicles that belong to a line exempted under this part and equipped with the antitheft device on which the line's exemption is based. Further, § 543.9(c)(2) provides for the submission of petitions “to modify an exemption to permit the use of an antitheft device similar to but differing from the one specified in that exemption.”

The agency wishes to minimize the administrative burden that Part 543.9(c)(2) could place on exempted vehicle manufacturers and itself. The agency did not intend in drafting Part 543 to require the submission of a modification petition for every change to the components or design of an antitheft device. The significance of many such changes could be de minimis. Therefore, NHTSA suggests that if the manufacturer contemplates making any changes the effects of which might be characterized as de minimis, it should consult the agency before preparing and submitting a petition to modify.

Authority: 49 U.S.C. 33106; delegation of authority at 49 CFR 1.50.

Issued on: July 7, 2005.
Stephen R. Kratzke,
Associate Administrator for Rulemaking.

[FR Doc. 05-13654 Filed 7-11-05; 8:45 am]

BILLING CODE 4910-59-P